INTERNATIONAL TRADE COMMISSION

[Investigation Nos. 701-TA-731 and 731-TA-1700 (Final)]

Low Speed Personal Transportation Vehicles From China; Determinations

On the basis of the record ¹ developed in the subject investigations, the United States International Trade Commission (“Commission”) determines, pursuant to the Tariff Act of 1930 (“the Act”), that an industry in the United States is materially injured by reason of imports of low speed personal transportation vehicles from China, provided for in subheadings 8703.10.50, 8703.90.01, 8706.00.15, and 8707.10.00 of the Harmonized Tariff Schedule of the United States, that have been found by the U.S. Department of Commerce (“Commerce”) to be sold in the United States at less than fair value (“LTFV”), and imports of the subject merchandise from China that have been found to be subsidized by the government of China.² ³

¹ The record is defined in § 207.2(f) of the Commission's Rules of Practice and Procedure (19 CFR 207.2(f)).

² 90 FR 26530, June 23, 2025; 90 FR 26536, June 23, 2025.

³ The Commission also finds that imports subject to Commerce's affirmative critical circumstances determination are likely to undermine seriously the remedial effect of the countervailing and antidumping duty orders on how speed personal transportation vehicles from China (Commissioner David S. Johanson dissenting).

Background

The Commission instituted these investigations effective June 20, 2024, following receipt of petitions filed with the Commission and Commerce by the American Personal Transportation Vehicle Manufacturers Coalition.⁴ The final phase of the investigations was scheduled by the Commission following notification of preliminary determinations by Commerce that imports of low speed personal transportation vehicles from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington DC, and by publishing the notice in the Federal Register on February 11, 2025 (90 FR 9345). The Commission conducted its hearing on June 12, 2025. All persons who requested the opportunity were permitted to participate.

⁴ The American Personal Transportation Vehicle Manufacturers Coalition is composed of Club Car, LLC, Evans, Georgia, and Textron Specialized Vehicles, Inc., Augusta, Georgia.

The Commission made these determinations pursuant to §§ 705(b) and 735(b) of the Act (19 U.S.C. 1671d(b) and 19 U.S.C. 1673d(b)). It completed and filed its determinations in these investigations on August 4, 2025. The views of the Commission are contained in USITC Publication 5652 (August 2025), entitled Low Speed Personal Transportation Vehicles from China: Investigation Nos. 701-TA-731 and 731-TA-1700 (Final).

By order of the Commission.
Issued: August 4, 2025.
Lisa Barton,
Secretary to the Commission.

[FR Doc. 2025-14995 Filed 8-6-25; 8:45 am]

BILLING CODE 7020-02-P